DEPARTMENT OF AGRICULTURE

Office of the Secretary

USDA Technology and eGovernment Advisory Council

AGENCY: Office of the Secretary, USDA.

ACTION: Notice of intent; establishment of Advisory Council.

SUMMARY: The Department of Agriculture is proposing to establish the USDA Technology and eGovernment Advisory Council to seek input from a broad base of USDA customers, partners, and employees into the Department's planning and implementation of technology solutions.

FOR FURTHER INFORMATION CONTACT: Scott Charbo, Chief Information Officer, USDA, 1400 Independence Ave., SW., Room 414W, Washington DC, 20250, telephone 202/720-8833.

SUPPLEMENTARY INFORMATION: Pursuant to the Federal Advisory Committee Act (5 U.S.C.App). notice is hereby given that the U.S. Department of Agriculture proposes to establish the USDA Technology and eGovernment Advisory Council to seek input from a broad base of USDA customers, partners, and employees into the Department's planning and implementation of technology solutions. The Council will provide advice and recommendations on improving USDA technology and eGovernment planning and operations.

The Council consists of nine members, all of which attend quarterly council meetings. Every effort is made to select council members who are outstanding in their respective professions and are knowledgeable of the various mission areas of USDA, and on how technology, both USDA and customer-owned, can be used to improve productivity and services.

A meeting notice will be published in the Federal Register within 15 to 45 days before a scheduled meeting date. All meetings are generally open to the public and may include a “public forum” that may offer 5-10 minutes for participants to present comments to the advisory committee. Alternates may choose not to be active during this session on the agenda. The chair of the given committee ultimately makes the decision whether to offer time on the agenda for the public to speak to the general body.

Equal opportunity practices will be followed in all appointments to the advisory committee. To ensure that the recommendations of the Advisory Council have taken into account the needs of diverse groups served by the Departments, membership will, to the extent practicable, include individuals with demonstrated ability to represent minorities, women, and persons with disabilities.

USDA will begin accepting nominations to the Council on November 15, 2003. Persons interested in serving on the Advisory Council, or in nominating individuals to serve, can access the Nomination Form AD-755 on USDA's Web site at: http://www.ocio.usda.gov. The Nomination Form may also be obtained by contacting the USDA Office of the Chief Information Officer (OCIO) by telephone (202) 720-8833, fax (202) 720-1031), or e-mail (adrienne.bowman@usda.gov).

Completed nomination forms must be submitted to OCIO by fax or in hard copy to: Office of the Chief Information Officer, U.S. Department of Agriculture, 1400 Independence Avenue, SW., Room 414-W, Washington, DC 20250. Form AD-755 must be received not later than January 15, 2004.

Dated: November 4, 2003.
Scott Charbo,
Chief Information Officer.

[FR Doc. 03-28291 Filed 11-10-03; 8:45 am]

BILLING CODE 3410-11-P